DEPARTMENT OF DEFENSE

Office of the Secretary

Submission for OMB Review; Comment Request

ACTION: Notice.

The Department of Defense will submit to OMB for emergency processing, the following proposal for collection of information under the provisions of the Paperwork Reduction Act (44 U.S.C. Chapter 35).

Title, Applicable Form, and OMB Number: Application for Department of Defense Common Access Card—DEERS Enrollment; DD Form 1172-2; OMB Number 0704-[To Be Determined].

Type of Request: New Collection; Emergency processing requested with a shortened public comment period ending September 28, 2000. An approval date by October 10, 2000, has been requested.

Number of Respondents: 300,000.

Responses per Respondent: 1.

Annual Responses: 300,000.

Average Burden per Response: 20 minutes.

Annual Burden Hours: 100,000.

Needs and Uses: The information collection is needed to obtain the necessary data to establish eligibility for the Department of Defense (DoD) Common Access Card for those individuals not pre-enrolled in the DEERs, and to maintain a centralized database of eligible individuals. This information is used to establish eligibility for the DoD Common Access Card for individuals either employed by or associated with the Department of Defense; is used to control access to DoD facilities and systems; and it provides a source of data for demographic reports and mobilization dependent support.

Affected Public: Individuals.

Frequency: On Occasion.

Respondent's Obligation: Voluntary.

OMB Desk Officer: Mr. Edward C. Springer. Written comments and recommendations on the proposed information collection should be sent to Mr. Springer at the Office of Management and Budget, Desk Officer for DoD, Room 10236, New Executive Office Building, Washington, DC 20503.

DoD Clearance Officer: Mr. Robert Cushing. Written requests for copies of the information collection proposal should be sent to Mr. Cushing, WHS/DIOR, 1215 Jefferson Davis Highway, Suite 1204, Arlington, VA 22202-4302, or by fax at (703) 604-6270.

Dated: September 1, 2000.
Patricia L. Toppings,
Alternate OSD Federal Register Liaison Officer, Department of Defense.

[FR Doc. 00-23049 Filed 9-7-00; 8:45 am]

BILLING CODE 5001-10-M